POSTAL SERVICE BOARD OF GOVERNORS

Sunshine Act Meeting

TIME AND DATE: 1 P.M, Friday, September 22, 2000;

PLACE: United States Postal Service Headquarters, 475 L'Enfant Plaza, SW., Room 10300, Washington, DC 20260-1000 and by telephone conference call.

STATUS: Closed.

MATTER TO BE CONSIDERED: 1. Priority Mail Processing Center Contract.

CONTACT PERSON FOR INFORMATION: David G. Hunter, Secretary of the Board, U.S. Postal Service, 475 L'Enfant Plaza, SW., Washington, DC 20260-1000. Telephone (202) 268-4800.

David G. Hunter,
Secretary.

[FR Doc. 00-24858 Filed 9-22-00; 3:48 pm]

BILLING CODE 7710-12-M